DEPARTMENT OF THE INTERIOR

Fish and Wildlife Service

[FWS-R8-ES-2008-N0286; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before November 28, 2008.

ADDRESSES: Written data or comments should be submitted to the U.S. Fish and Wildlife Service, Endangered Species Program Manager, Region 8, 2800 Cottage Way, Room W-2606, Sacramento, CA, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-195251

Applicant: Christopher B. Clifford, Davis, California

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-195286

Applicant: Scott T. Cashen, Walnut Creek, California

The applicant requests a permit to take (survey and set up remote camera systems) the Peninsular bighorn sheep (Ovis canadensis) in conjunction with population and demographic research studies within Imperial County, California for the purpose of enhancing its survival.

Permit No. TE-195305

Applicant: Andres Aguilar, Merced, California

The applicant requests a permit to take (capture, collect, and kill) the vernal pool tadpole shrimp (Lepidurus packardi) in conjunction with surveys and genetic research within Merced County, California for the purpose of enhancing their survival.

Permit No. TE-195306

Applicant: Riley J. Swift, Rocklin, California

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California and within Jackson and Klamath Counties in Oregon for the purpose of enhancing their survival.

Permit No. TE-195304

Applicant: Michael J. Farmer, Rancho Cordova, California

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-195891

Applicant: Dr. Justen B. Whittall, Santa Clara, California

The applicant requests a permit to remove/remove to possession the Erysimum capitatum var. angustatum (Contra Costa wallflower) from federal lands in conjunction with genetic sampling for the purpose of enhancing their survival.

Permit No. TE-117947

Applicant: Kevin B. Clark, San Diego, California

The applicant requests an amendment to take (play taped vocalizations) the lease Bell's vireo (Vireo bellii pusillus) in conjunction with surveys and monitoring, and take (survey by pursuit) the Quino checkerspot butterfly (Euphydryas editha quino) in conjunction with surveys throughout the range of each species within the jurisdiction of the Carlsbad Fish and Wildlife Office, in California for the purpose of enhancing its survival.

Permit No. TE-807078

Applicant: Point Reyes Bird Observatory Conservation Services, Petaluma, California

The applicant requests an amendment to take (locate/monitor nests) the California clapper rail (Rallus longirostris obsoletus) in conjunction with surveys and population monitoring studies within Marin, Sonoma, Napa, Solano, and Contra Costa Counties, California, for the purpose of enhancing its survival.

We solicit public review and comment on each of these recovery permit applications. Comments and materials we receive will be available for public inspection, by appointment, during normal business hours at the address listed in the ADDRESSES section of this notice.

Dated: October 23, 2008.
Michael Fris,
Acting Regional Director, Region 8, Sacramento, California.

[FR Doc. E8-25772 Filed 10-28-08; 8:45 am]

BILLING CODE 4310-55-P